DEPARTMENT OF DEFENSE

Department of the Army; Corps of Engineers

Intent To Prepare a Supplemental Environmental Impact Statement for the Proposed Ruter-Hess Reservoir Expansion Project, Parker, CO

AGENCY: Department of the Army, U.S. Army Corps of Engineers, DoD.

ACTION: Notice of intent.

SUMMARY: The U.S. Army Corps of Engineers (Corps) Omaha District is preparing a Supplemental Environmental Impact Statement (EIS) to analyze the direct, indirect and cumulative effects of enlarging the Rueter-Hess Reservoir, currently under construction in Parker, CO. The current project was authorized in February 2004 with Corps Permit #199980472. The basic purpose of the proposed action is the same as defined in the original EIS, which is to provide a safe, adequate and sustainable municipal water supply to Parker Water and Sanitation District (PWSD), Parker, CO that is capable of meeting the peak demands for the District's service area for the next 50 years. In addition, the purpose for enlarging the reservoir is to provide peaking storage of Denver Basin groundwater for selected South Metro Denver area water providers and to assist in sustaining the Denver Basin Aquifer. The construction of the proposed project would result in additional temporary and permanent impacts to wetlands and other Waters of the United States, requiring a new section 404 permit. To familiarize the public and interested organizations with the project and potential environmental issues that may be involved; the Corps has prepared a Scoping Document for the project. This document includes a project description, preliminary list of alternatives and various environmental/resource issues that will be addressed in the Supplemental EIS. Copies of the Scoping Document will be available at the public scoping meetings or can be requested by mail. The Supplemental EIS will be prepared according to the Corps' procedures for implementing the National Environmental Policy Act (NEPA) of 1969, as amended, 42 U.S.C. 4332(2)(C), and consistent with the Corps' policy to facilitate public understanding and review of agency proposals.

DATES: Submit comments by December 19, 2005.

ADDRESSES: Send written comments regarding the proposed action and Supplemental EIS to Rodney Schwartz, EIS Project Manager, U.S. Army Corps of Engineers, 12565 West Center Road, Omaha, NE., 68144-3869 or via e-mail: Rodney J.Schwartz@usace.army.mil. Requests to be placed on the mailing list should also be sent to this address.

FOR FURTHER INFORMATION CONTACT: Rodney Schwartz, EIS Project Manager, Corps, Omaha District at (402) 221-4143.

Information: Parker Water and Sanitation District proposes to enlarge the Rueter-Hess Reservoir, currently under construction in Parker, CO to provide peaking storage of Denver Basin groundwater for selected South Metro Denver area water providers and to assist in sustaining the Denver Basin Aquifer. The reservoir is located in Douglas County, CO approximately 12 miles southeast of Denver and 3 miles southwest of the town of Parker. The proposal is to enlarge the reservoir from the 16,670 acre-feet by 54,330 acre-feet for a total storage capacity of 71,000 acre-feet. The surface area of the reservoir would increase by approximately 658 acres, from 468 acres at the normal pool elevation of 6,145 feet to 1,126 acres (elev. 6,212 feet). The proposed dam design would change from 135 feet high to 196 feet high (61-foot increase) and from 4,822.5 feet long to 7,479.8 feet long (2,657.3-foot increase).

The basic need for the project, as identified by the Applicant, is to provide a terminal storage facility capable of storing Denver Basin groundwater on a year-round basis for the projected build-out demands for PWSD, Castle Rock, Stonegate and Castle Pines North. New pipelines would be installed to deliver the water to and from these new project participants.

Scoping meetings will be held at two locations:

1. Tuesday, December 6, 2005 at 6:30 p.m. at the North Water Reclamation Plant, 18100 E. Woodman Drive, Parker, CO.

2. Wednesday, December 7, 2005 at 6:30 p.m. at the County Office Building, Hearing Room, 100 Third Street, Castle Rock, CO.

These Scoping Meetings will be held to describe the proposed project, preliminary alternatives, the NEPA compliance process, and to solicit input on the issues and alternatives to be evaluated and other related matters. Written comments will also be requested.

Russell W. Rocheford,
Chief, Regulatory Branch, Operations Division.

[FR Doc. 05-22808 Filed 11-17-05; 8:45 am]

BILLING CODE 3710-62-M